DEPARTMENT OF COMMERCE

Submission for OMB Review; Comment Request

DOC has submitted to the Office of Management and Budget (OMB) for clearance the following proposal for collection of information under the provisions of the Paperwork Reduction Act of 1995, Public Law 104-13.

Bureau: International Trade Administration.

Title: Watch Duty-Exemption and 7113 Jewelry Duty-Refund Program Forms.

Agency Form Numbers: ITA-340P, ITA-360P, and ITA-361P.

OMB Number: 0625-0134.

Type of Request: Regular Submission.

Burden: 66 hours.

Number of Respondents: 11.

Avg. Hours Per Response: 10 minutes.

Needs and Uses: Pub. L. 97-446, as amended by Pub. L. 103-465, requires the Department of Commerce and the Interior to administer the distribution of duty-exemptions and duty-refunds to watch producers in the U.S. insular possessions and the Northern Mariana Islands. Pub. L. 106-36, enacted in 1999, extended the duty-refund benefit for any jewelry within heading 7113 of the Harmonized Tariff Schedule of the United States which is the product of the U.S. Territories and the Northern Mariana Islands in accordance with the provisions of the note in chapter 71 and additional U.S. note 5 to chapter 91. The primary consideration in collecting information is the enforcement of the law and the information gathered is limited to that necessary to prevent abuse of the program and to permit a fair and equitable distribution of its benefits. Form ITA-340P provides the data to assist in verification of duty-free shipments of watches into the United States and make certain the allocations are not exceeded. Forms ITA-360P and ITA-361P are necessary to implement the duty-refund program for the watch and jewelry producers. Because the duty-refund benefit has been changed from an annual benefit to a biannual benefit, Forms ITA-360P and ITA-361P will now also be used for the distribution of an interim duty-refund benefit.

Affected Public: Businesses or other for-profits.

Frequency: Semi-Annually.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution, NW., Washington, DC 20230 or via internet at dHynek@doc.gov.

Written comments and recommendations for the proposed information collection should be sent to David Rostker, OMB Desk Officer, Room 10202, New Executive Office Building, Washington, DC 20503 within 30 days of the publication of this notice in the Federal Register.

Dated: September 23, 2002.
Madeleine Clayton,
Management Analyst, Office of the Chief Information Officer.

[FR Doc. 02-24536 Filed 9-26-02; 8:45 am]

BILLING CODE 3510-DS-P